DEPARTMENT OF THE INTERIOR

Bureau of Reclamation

Mendota Pool Ten-Year Exchange Agreements, Proposed Annual Water Exchange, California

AGENCY: Bureau of Reclamation, Interior.

ACTION: Notice of availability of the final environmental impact statement (EIS).

SUMMARY: The Department of the Interior, Bureau of Reclamation (Reclamation), has prepared a final EIS, pursuant to the National Environmental Policy Act (NEPA), to evaluate the proposed annual water exchange agreements of up to 25,000 acre-feet of water per year for up to a 10-year period with the Mendota Pool Group.

The purpose of the proposed project is to provide water to irrigable lands on Mendota Pool Group properties in Westlands Water District and San Luis Water District to offset substantial reductions in contract water supplies attributable to the Central Valley Project Improvement Act (CVPIA), the Endangered Species Act listings and regulations, and new Bay-Delta water quality rules. This water would thereby enable the Mendota Pool Group farmers to maintain production on historically irrigated lands. The project is not intended to increase the amount of water for farming activities, but would replace some of the contract water lost because of increased environmental regulations that restrict water deliveries south of the export pumps at Tracy, California.

DATES: Reclamation will not make a decision on the proposed action until at least 30 days after release of the Final EIS/EIR. After the 30-day waiting period, Reclamation will complete a Record of Decision (ROD). The ROD will state the action that will be implemented and will discuss all factors leading to the decision.

ADDRESSES: The final EIS may be obtained by contacting Mr. David Young at the Bureau of Reclamation, South-Central California Area Office, 1243 N Street, Fresno, CA 93721-1813; by telephone at 559-487-5127; (TDD 559-487-5933); by e-mail at dkyoung@mp.usbr.gov; or by fax at 559-487-5397. The final EIS is also available via the Internet at http://www.usbr.gov/mp/sccao/index.html.

FOR FURTHER INFORMATION CONTACT: Mr. Young, Environmental Specialist, at the above address or by telephone at 559-487-5127 (TDD 559-487-5933).

SUPPLEMENTARY INFORMATION: The Delta export service area of the Central Valley Project (CVP) has total contractual obligations and delivery losses of approximately 3.45 million acre-feet per year. The theoretical maximum pumping capability of CVP facilities serving this area is approximately 3.09 million acre-feet per year. Available supplies are apportioned under a hierarchy of allocation in which agricultural water service contracts, totaling about 1.85 million acre-feet per year, are provided water only after all other obligations are met. Implementation of the CVPIA (1992), Endangered Species Act (1993-1995), and revised Bay-Delta water quality standards have further reduced pumping capabilities and water supplies available to agricultural contractors. Currently agricultural contractors can expect to receive a long-term average supply of about 50 to 55 percent of contract water as compared to a pre-1992 average of 88 to 92 percent.

Alternatives identified and evaluated, based on criteria adopted to maintain environmental quality, provide for continued agricultural production and include the proposed project, construction of new wells, and fallowing of farmland. The project proponents propose to pump up to 269,600 acre-feet of groundwater over the 10-year period from non-CVP wells located adjacent to the Mendota Pool into the Mendota Pool to make up for a portion of the annual shortfall in the contract water to be delivered via the CVP. The actual quantity of water to be pumped would depend on whether the year is classified as wet (0 acre-feet per year), normal (maximum of 31,600 acre-feet per year), or dry (maximum of 40,000 acre-feet per year). As part of this program, a maximum of 12,000 acre-feet per year of groundwater would be pumped from deep wells (i.e., screened interval greater than 130 feet deep), with the remainder coming from shallow wells (i.e., screened interval less than 130 feet deep). The proposed project will comply with the terms specified in the Settlement Agreement for Mendota Pool Transfer Pumping Program, effective January 1, 2001.

The Federal action contemplated in the EIS is the exchange with Reclamation of a maximum of 25,000 acre-feet of the total quantity pumped each year. This water would be made available to Reclamation in the Mendota Pool to offset their existing water contract obligations. In exchange, Reclamation would make an equivalent amount of CVP water available to the members of the Mendota Pool Group for irrigation purposes at Check 13 of the Delta-Mendota Canal. Any quantity of water pumped by the Mendota Pool Group beyond the 25,000 acre-feet exchanged is not part of the Federal action, but is evaluated in the EIS. The water pumped in excess of the 25,000 acre-feet exchanged with Reclamation would be delivered directly to other lands that are presently under irrigation around the Pool.

The primary environmental resource issues that are evaluated in the EIS include groundwater levels, groundwater quality, subsidence, surface water quality, and biological resources. Other resource areas evaluated include cost of water, CVP operations, archaeological and cultural resources, Indian Trust assets, environmental justice, socioeconomic resources, land use, transportation, air quality, and noise.

There are no known Indian Trust Assets or environmental justice issues associated with the proposed action.

Reclamation published the notice of availability of the draft EIS in the Federal Register on Tuesday, July 29, 2003 (68 FR 44542). The 60-day written comment period ended on September 29, 2003. Reclamation obtained public input on the scope of the project and potential alternatives through solicitation of comment letters and a public scoping meeting. Ten comment letters were received. The final EIS addresses the comments received on the draft EIS both as revisions to the text, and in an appendix that provides specific responses to each comment.

It is Reclamation's practice to publicly disclose respondents' comments, including names and addresses. Respondents may request that their address be withheld from disclosure; this will be honored to the extent allowable by law. There may also be circumstances in which a respondent's identity may be withheld from disclosure; again, this will be honored to the extent allowable by law. If you wish us to withhold your name and/or address, you must state this prominently at the beginning of your comment. All submissions from organizations or businesses will be publicly disclosed in their entirety.

Dated: November 29, 2004.
Kirk C. Rodgers,
Regional Director, Mid-Pacfic Region.

[FR Doc. 04-27006 Filed 12-8-04; 8:45 am]

BILLING CODE 4310-MN-P